DEPARTMENT OF JUSTICE

Notice of Lodging of Proposed Consent Decree Under the Comprehensive Environmental Response, Compensation, and Liability Act

On November 22, 2016, the Department of Justice lodged a proposed consent decree with the United States District Court for the Western District of North Carolina in the lawsuit entitled United States v. CTS Corporation, Mills Gap Road Associates, and Northrop Grumman Systems Corporation, Civil Action No. 1:16-cv-00380.

The United States, on behalf of the U.S. Environmental Protection Agency (EPA), filed this lawsuit under the Comprehensive Environmental Response, Compensation, and Liability Act (CERCLA). The complaint seeks performance of response actions to address contamination of tricholorethylene in the groundwater at the CTS of Asheville, Inc. Superfund Site in Asheville, North Carolina.

The proposed consent decree would resolve the claims alleged in the complaint. It requires the defendants, CTS Corporation, Mills Gap Road Associates, and Northrop Grumman Corporation, to implement the remedy selected by EPA, which is estimated to cost $8,885,000.

The publication of this notice opens a period for public comment on the consent decree. Comments should be addressed to the Assistant Attorney General, Environment and Natural Resources Division, and should refer to United States v. CTS Corporation, Mills Gap Road Associates, and Northrop Grumman Systems Corporation, D.J. Ref. No. 90-11-2-08135/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

For a paper copy, please enclose a check or money order for $109.50 (25 cents per page reproduction cost) payable to the United States Treasury. For a paper copy without the exhibits and signature pages, the cost is $8.50.

Henry S. Friedman,
Assistant Section Chief, Environmental Enforcement Section, Environment and Natural Resources Division.

[FR Doc. 2016-29355 Filed 12-6-16; 8:45 am]

BILLING CODE 4410-15-P